DEPARTMENT OF COMMERCE

National Oceanic and Atmospheric Administration

RIN 0648-XH042

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold meetings of its American Samoa Archipelago Fishery Ecosystem Plan (FEP) Advisory Panel (AP) and Mariana Archipelago FEP-Commonwealth of the Northern Mariana Islands (CNMI) AP to discuss and make recommendations on fishery management issues in the Western Pacific Region.

DATES: The American Samoa Archipelago FEP AP will meet on Wednesday, June 12, 2019, between 5:30 p.m. and 7:30 p.m. and the Mariana Archipelago FEP-CNMI AP will meet on Thursday, June 13, 2019, between 6 p.m. and 8 p.m. All times listed are local island times.

For specific times and agendas, see SUPPLEMENTARY INFORMATION.

ADDRESSES: The American Samoa Archipelago FEP AP will meet at the Native American Samoa Advisory Council Building, Pava'ia'i Village, Tutuila, American Samoa, 96799 and the CNMI Mariana Archipelago FEP AP will meet at the Micronesian Environmental Services Conference Room, Garapan, Saipan, CNMI, 96950.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the American Samoa AP Meeting

Wednesday, June 12, 2019, 5:30 p.m.-7:30 p.m.

1. Welcome and Introductions

2. Review of the last AP meeting and recommendations

3. Council Issues

A. U.S. Territory Longline Bigeye Catch/Allocation Limits

B. Annual SAFE Report Updates

4. American Samoa Reports

A. Community Report

B. Education Report

C. Island Report

D. Legislative Report

5. Report on American Samoa FEP Advisory Panel Plan

6. Island Fishery Issues and Activities

7. Public Comment

8. Discussion and Recommendations

9. Other Business

Schedule and Agenda for the Mariana Archipelago FEP-CNMI AP Meeting

Thursday, June 13, 2019, 6 p.m.-8 p.m.

1. Welcome and Introductions

2. Review of the last AP meeting and recommendations

3. Council Issues

A. U.S. Territory Longline Bigeye Catch/Allocation Limits

B. Annual SAFE Report Updates

4. CNMI Reports

A. Community Report

B. Education Report

C. Island Report

D. Legislative Report

5. Report on Mariana Archipelago FEP Advisory Panel Plan

6. Island Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 22, 2019.
Tracey L. Thompson,
Acting Deputy Director, Office of Sustainable Fisheries, National Marine Fisheries Service.

[FR Doc. 2019-11043 Filed 5-24-19; 8:45 am]

BILLING CODE 3510-22-P